DEPARTMENT OF AGRICULTURE

Natural Resources Conservation Service

Notice of Meeting of the Agricultural Air Quality Task Force

AGENCY: Natural Resources Conservation Service (NRCS), USDA.

ACTION: Notice of meeting.

SUMMARY: The Agricultural Air Quality Task Force (AAQTF) will meet to continue discussions on air quality issues relating to agriculture.

DATES: The meeting will convene at 8 a.m. on Tuesday, May 8, 2007, through 12 p.m. on Thursday, May 10, 2007. A public comment period will be held on May 9, 2007. Individuals making oral presentations should register in person at the meeting site and must bring with them 50 copies of any materials they would like distributed. Written materials for AAQTF's consideration prior to the meeting, must be received by Ms. Michele Laur (address given below) no later than Monday, April 16, 2007.

ADDRESSES: The meeting will be held at the Hyatt Regency Islandia/Hyatt Mission Bay, 1441 Quivira Road, San Diego, California, 92109; telephone: (619) 224-1234.

FOR FURTHER INFORMATION: Questions and comments should be directed to Michele Laur, Designated Federal Officer. Ms. Laur may be contacted at USDA Natural Resources Conservation Service, Post Office Box 2890, Room 6165-South, Washington, DC 20013; telephone: (202) 720-1858: e-mail: Michele.Laur@wdc.usda.gov.

SUPPLEMENTARY INFORMATION: Notice of this meeting is given under the Federal Advisory Committee Act, 5 U.S.C. App. 2. Additional information concerning AAQTF may be found on the Internet at http://www.airquality.nrcs.usda.gov/AAQTF/.

Draft Agenda of the May 8-10, 2007, Meeting of AAQTF

Tuesday, May 8, Beginning at 8 a.m.

A. Welcome to San Diego, California

B. Discussion of Subcommittee Action Plans and Activities

C. Discussion of Biofuels and Other Environmental Issues

Wednesday, May 9 and Thursday, May 10

D. Discussion of Subcommittee Action Plans and Activities

E. Discussion of California Air Quality Issues

F. Discussion of Ozone

G. Discussion of Climate Change

H. Next Meeting, Time and Place

I. Public Comments

(Time will be reserved on May 9, 2007, in the afternoon to receive public comment. Individual presentations will be limited to 5 minutes).

Procedural

This meeting is open to the public. At the discretion of the Chair, members of the public may give oral presentations during the meeting. Those persons wishing to make oral presentations should register in person at the meeting site. Those wishing to distribute written materials at the meeting itself, in conjunction with spoken comments, must bring 50 copies of the materials with them. Written materials for distribution to AAQTF members prior to the meeting must be received by Ms. Michelle Laur no later than Monday, April 16, 2007.

Information on Services for Individuals With Disabilities

For information on facilities or services for individuals with disabilities, or to request special assistance at the meeting, please contact Ms. Laur. USDA prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact the USDA's Target Center at (202) 720-2000 (voice and TDD). USDA is an equal opportunity provider and employer.

Signed in Washington, DC on March 30, 2007.
Arlen L. Lancaster,
Chief.

[FR Doc. E7-6737 Filed 4-9-07; 8:45 am]

BILLING CODE 3410-16-P